INTERNATIONAL BOUNDARY AND WATER COMMISSION UNITED STATES AND MEXICO

United States Section; Notice of Availability of the Final Environmental Assessment (EA) and Finding of No Significant Impact for the Continued Implementation of the River Management Plan for the Rio Grande Canalization Project

AGENCY: United States Section, International Boundary and Water Commission, United States and Mexico (USIBWC).

ACTION: Notice.

SUMMARY: Pursuant to Section 102(2)(c) of the National Environmental Policy Act of 1969; the Council on Environmental Quality Final Regulations, and the USIBWC Operational Procedures for Implementing Section 102 of NEPA, published in the Federal Register September 2, 1981, the USIBWC hereby gives notice that the Final Environmental Assessment and Finding of No Significant Impact for the Continued Implementation of the River Management Plan for the Rio Grande Canalization Project is available.

FOR FURTHER INFORMATION CONTACT: Elizabeth Verdecchia, Natural Resources Specialist, USIBWC, 4191 N Mesa, C-100; El Paso, Texas 79902. Telephone: (915) 832-4701, Fax: (915) 493-2428, email: Elizabeth.Verdecchia@ibwc.gov.

Availability: The electronic version of the Final EA is available on the USIBWC web page: https://www.ibwc.gov/EMD/EIS_EA_Public_Comment.html.

SUPPLEMENTARY INFORMATION: The USIBWC prepared the EA to evaluate the environmental effects of continuing to implement the River Management Plan (RMP) for the Rio Grande Canalization Project (RGCP) in Sierra and Doña Ana Counties, New Mexico and El Paso County, Texas. The RMP covers sediment removal from the channel and lower end of tributary arroyos; vegetation management along channel banks, floodways, and levees; replacement of channel bank rip rap; maintenance of sedimentation/flood control dams in the tributary arroyos (since the construction of those dams in the early 1970s); maintenance of all RGCP infrastructure, including levee roads, bridges, and the American Diversion Dam; implementation of channel maintenance alternatives (CMAs) within the USIBWC right-of-way (ROW) as outlined in the RMP; and implementation/maintenance of habitat restoration sites. The EA evaluates potential impacts of seven alternatives, including the No Action Alternative. Under the Preferred Alternative, USIBWC would continue implementation of the RMP; designate up to 65 miles through the USIBWC ROW for the New Mexico Rio Grande Trail and Texas trails under USIBWC's lease program; conduct increased sediment removal; re-evaluate and construct additional CMAs potentially outside of the ROW; increase efforts to engage stakeholders through the Sediment Control Initiative Federal Workgroup and stakeholder groups; and transfer up to 500 acres of unsuccessful restoration (either No-Mow Zone managed grasslands or habitat restoration) to areas outside of the USIBWC jurisdiction, via partnerships.

Potential impacts on natural, cultural, and other resources were evaluated. A Finding of No Significant Impact has been prepared for the Preferred Alternative based on a review of the facts and analyses contained in the EA. Notice of the Draft EA was published in the Federal Register on May 31, 2019 (Federal Register Notice, Vol. 84, No. 105, Page 25307); USIBWC extended the original thirty-five (35) day comment period an additional thirty-one (31) calendar days for a total of sixty-six (66) days. USIBWC modified the Preferred Alternative to incorporate public input. An environmental impact statement will not be prepared unless additional information which may affect this decision is brought to our attention within 30 days from the date of this Notice.

Dated: December 5, 2019.
Rebecca Rizzuti,
Attorney Advisor, International Boundary and Water Commission, United States Section.

[FR Doc. 2019-27602 Filed 1-8-20; 8:45 am]

BILLING CODE 7010-01-P